DEPARTMENT OF ENERGY

Federal Energy Regulatory Commission

[Project No. 12958-001; Project No. 12962-001]

Uniontown Hydro, LLC, Newburgh Hydro, LLC; Notice of Applications Tendered for Filing With the Commission and Establishing Procedural Schedule for Licensing and Deadline for Submission of Final Amendments

Take notice that the following hydroelectric application has been filed with the Commission and is available for public inspection.

a. Type of Applications: New Major License.

b. Project Nos.: 12958-001 and 12962-001.

c. Date Filed: April 29, 2011.

d. Applicant: Uniontown Hydro, LLC and Newburgh Hydro, LLC.

e. Name of Projects: Uniontown Hydroelectric Project and Newburgh Hydroelectric Project.

f. Location: The projects would be located on the Ohio River at existing U.S. Army Corps of Engineers locks and dams. The Uniontown Project would be located at the John T. Myers Lock and Dam, in Union County, Kentucky and Posey County, Indiana. The Newburgh Project would be located at the Newburgh Lock and Dam, in Henderson County, Kentucky and Warrick County, Indiana.

g. Filed Pursuant to: Federal Power Act, 16 U.S.C. 791 (a)-825(r).

h. Applicant Contact: Brent L. Smith, COO, Symbiotics, P.O. Box 535, Rigby, Idaho 83442.

i. FERC Contact: Jennifer Adams; (202) 502-8087, or jennifer.adams@ferc.gov.

j. This application is not ready for environmental analysis at this time.

k. The Project Description: The existing John T. Myers Lock and Dam is a 3,504-foot-long, 119-foot-high dam containing ten Taintor gates and a concrete fixed weir. Each gate is 110-foot-wide by 32-foot-high. The main and auxiliary locks are on the Indiana side of the river. The main lock is 110-foot-wide by 1,200-foot-long and the auxiliary lock is 110-foot-wide by 600-foot-long. The impoundment above the John T. Myers Lock and Dam has a surface area of 19,350 acres and a storage capacity of 543,862 acre-feet. Because the purpose of the storage is navigational only, the storage would not be used for power generation.

The proposed Uniontown Project (at the John T. Myers Lock and Dam) would consist of: (1) A 340-foot-long by 75-foot-wide powerhouse and inlet containing four Kaplan turbine-generators, with an installed capacity of 24.0 MW each for a total plant capacity of 96.0 MW; (2) a 520-foot-wide by 38-foot-high trash rack, with 4-inch openings; (3) a 300-foot-wide by 57-foot-high concrete draft tube outlet; (4) a 14.47-mile-long, 138-kV transmission line; and (5) appurtenant facilities.

The existing Newburgh Lock and Dam is a 2,275.5-foot-long by 122-foot-high dam containing nine Taintor gates and a concrete fixed weir. Each gate is 110-foot-wide by 32-feet-high. The main and auxiliary locks are on the Indiana side of the river. The main lock is 110-foot-wide by 1,200-foot-long and the auxiliary lock is 110-foot-wide by 600-foot-long. The impoundment above the Newburgh Lock and Dam has a surface area of 16,390 acres and a storage capacity of 455,800 acre-feet. Because the purpose of the storage is navigational only, the storage would not be used for power generation.

The proposed Newburgh Project (at the Newburgh Lock and Dam) would consist of: (1) A 375-foot-long by 110-foot-wide powerhouse and inlet containing five Kaplan turbine-generators, with an installed capacity of 13.0 MW each for a total plant capacity of 65.0 MW; (2) a 400-foot-wide by 44-foot-high trash rack, with 4-inch openings; (3) a 375-foot-wide by 57-foot-high concrete draft tube outlet; (4) a 4.7-mile-long, 138-kV transmission line; and (5) appurtenant facilities.

l. Locations of the Applications: Copies of the applications are available for review at the Commission in the Public Reference Room or may be viewed on the Commission's Web site at http://www.ferc.gov, using the “eLibrary” link. Enter the docket number, excluding the last three digits in the docket number field to access the document. For assistance, contact FERC Online Support at FERCOnlineSupport@ferc.gov, or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule: The application will be processed according to the following preliminary Hydropower Licensing Schedule. Revisions to the schedule may be made as appropriate.

Milestone | Target date
Notice of Acceptance/Notice of Ready for Environmental Analysis | June 28, 2011.
Filing of recommendations, preliminary terms and conditions, and fishway prescriptions | August 27, 2011.
Commission issues Draft EA | February 23, 2012.
Comments on Draft EA | March 24, 2012.
Modified terms and conditions | May 23, 2012.
Commission Issues Final EA or EIS | August 21, 2012.

o. Final amendments to the application must be filed with the Commission no later than 30 days from the issuance date of the notice of ready for environmental analysis.

Dated: May 10, 2011.
Kimberly D. Bose,
Secretary.

[FR Doc. 2011-11911 Filed 5-13-11; 8:45 am]

BILLING CODE 6717-01-P